NATIONAL TRANSPORTATION SAFETY BOARD

Agenda; Sunshine Act Meeting

TIME AND DATE: 9:30 a.m., Tuesday, November 14, 2000.

PLACE: NTSB Board Room, 429 L'Enfant Plaza, S.W. Washington, D.C. 20594.

STATUS: Open to the Public.

MATTERS TO BE CONSIDERED:

7302 Highway Accident Report: School Bus and Dump Truck Collision, Central Bridge, New York, on October 21, 1999.

NEWS MEDIA CONTRACT: Telephone: (202) 314-6100.

Individuals requesting specific accommodation should contact Mrs. Barbara Bush at (202) 314-6220 by Friday, November 9, 2000.

FOR MORE INFORMATION CONTACT: Rhonda Underwood (202) 314-6065.

Dated: November 3, 2000.
Rhonda Underwood,
Federal Register Liaison Officer.

[FR Doc. 00-28771 Filed 11-6-00; 10:50 am]

BILLING CODE 7533-01-M